DEPARTMENT OF TRANSPORTATION

National Highway Traffic Safety Administration

49 CFR Parts 531 and 533

[Docket No. NHTSA-2007-27350]

Corporate Average Fuel Economy—Request for Product Plan Information for Model Year 2007-2017 Passenger Cars and 2010-2017 Light Trucks

AGENCY: National Highway Traffic Safety Administration (NHTSA), Department of Transportation (DOT).

ACTION: Request for comments; correction.

SUMMARY: This document corrects the dates and addresses captions in a request for comments published in the Federal Register of February 27, 2007 (72 FR 8664), regarding the acquisition of new and updated manufacturers' future product plans to aid in implementing the President's plan for reforming and increasing corporate average fuel economy (CAFE) standards for passenger cars and further increasing the already reformed light truck standards. The DATES caption did not include the correct date for submission of light truck product plans, and the addresses caption did not include a complete docket number.

FOR FURTHER INFORMATION CONTACT: Ken Katz, (202) 366-4936.

Correction

In the Federal Register of February 27, 2007, in FR Doc. 07-878, make the following corrections. On page 8664, in the third column, correct the DATES caption to read:

DATES: Passenger car comments must be received on or before May 29, 2007. Light truck comments must be received on or before June 27, 2007.

On page 8664, in the third column, correct the first three lines of the ADDRESSES caption to read:

ADDRESSES: You may submit comments [identified by DOT DMS Docket Number 2007-27350] by any of the following methods:

Issued: March 9, 2007.
Stephen R. Kratzke,
Associate Administrator for Rulemaking.

[FR Doc. E7-4765 Filed 3-14-07; 8:45 am]

BILLING CODE 4910-59-P